DEPARTMENT OF ENERGY

Federal Energy Regulatory Commission

18 CFR Part 385

[Docket No. RM19-18-000; Order No. 862]

Formal Requirements for Filings in Proceedings Before the Commission

AGENCY: Federal Energy Regulatory Commission, Department of Energy.

ACTION: Final rule; announcement of effective date.

SUMMARY: The Federal Energy Regulatory Commission is announcing the effective date for changes to the Commission's regulations that provide the address for hand-delivered filings and submissions to the Commission.

DATES: The final rule published at 84 FR 46440 on September 4, 2019, and delayed at 84 FR 55498 on October 17, 2019, is effective December 17, 2020.

FOR FURTHER INFORMATION CONTACT: Christopher Cook, Office of the Secretary, 888 First Street NE, Washington, DC 20426, (202) 502-8102, christopher.cook@ferc.gov.

Mark Hershfield, Office of the General Counsel, 888 First Street NE, Washington, DC 20426, (202) 502-8597, mark.hershfield@ferc.gov.

SUPPLEMENTARY INFORMATION: On August 27, 2019, the Commission issued a final rule in Docket No. RM19-18-000 requiring that deliveries of filings and submissions, other than by the United States Postal Service, be sent to an off-site facility ¹ for security screening and processing.² The final rule, which was published in the Federal Register on September 4, 2019, provided that the new regulation would take effect 60 days after the date of publication of the final rule in the Federal Register.³ On October 11, 2019, the Secretary issued a document, stating that the effective date for the final rule was postponed indefinitely to ensure that the public and the Commission make an effective transition to utilizing the off-site facility.⁴ A Notice of Effective Date was issued on June 23, 2020 annoucing the regulation would take effect on July 1, 2020.⁵ This document serves to make the regulatory change effective in the CFR.

¹ Federal Energy Regulatory Commission, c/o Health and Human Services, 12225 Wilkins Avenue, Rockville, Maryland 20852.

² Formal Requirements for Filings in Proceedings Before the Commission, 168 FERC ¶ 61,120 (2019) (Final Rule).

³ 84 FR 46440.

⁴ 84 FR 55498.

⁵ 85 FR 38884.

Issued: December 14, 2020.
Kimberly D. Bose,
Secretary.

[FR Doc. 2020-27797 Filed 12-16-20; 8:45 am]

BILLING CODE 6717-01-P